DEPARTMENT OF THE INTERIOR

National Park Service

General Management Plan, Draft Environmental Impact Statement, Rio Grande Wild and Scenic River, TX

AGENCY: National Park Service, Department of the Interior.

ACTION: Notice of Availability of the Draft Environmental Impact Statement for the General Management Plan, Rio Grande Wild and Scenic River.

SUMMARY: The National Park Service announces the availability of the Draft Environmental Impact Statement for the General Management Plan for Rio Grande Wild and Scenic River, Texas. This is being done pursuant to the National Environmental Policy Act of 1969, 42 U.S.C. 4332(C).

DATES: The National Park Service will accept comments on the Draft Environmental Impact Statement from the public through May 24, 2004. Public meetings to accept comments on the draft plan will be held in Dallas, Houston, and Study Butte, Texas. Times and locations of the meetings will be available from the Superintendent of Rio Grande Wild and Scenic River at the address below or on the Rio Grande Web site at http://www.nps.gov/rigr.

ADDRESSES: Copies of the draft Environmental Impact Statement and General Management Plan are available from the Superintendent, Rio Grande Wild and Scenic River, at the address shown below. Public reading copies of the document will be available for review at the following locations:

Office of the Superintendent, Rio Grande Wild and Scenic River, Park Headquarters, Panther Junction, Big Bend National Park, TX 79834-0129, Telephone: (915) 477-2291.

NPS Intermountain Support Office—Denver, Planning and Environmental Quality, 12795 W. Alameda Parkway, Lakewood, CO 80228, Telephone: (303) 987-6671.

FOR FURTHER INFORMATION CONTACT: The Superintendent, Rio Grande Wild and Scenic River, at the address and telephone number shown above.

SUPPLEMENTARY INFORMATION: If you wish to comment on the draft plan, you may submit your comments by any one of several methods. You may mail comments to Superintendent, Rio Grande Wild and Scenic River, P.O. Box 129, Big Bend National Park, TX 79834-0129. You may also submit a comment via the Internet at http://planning.nps.gov/plans.cfm. Please also include “Attn: Rio Grande GMP” and your name and return address in the on-line comment form. Finally, you may present your comments in person at the public meetings to be held during the public review period.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety. It is not the policy of the National Park Service to consider anonymous comments “where appropriate.”

Dated: November 10, 2003.
Michael D. Snyder,
Deputy Director, Intermountain Region, National Park Service.

[FR Doc. 04-6642 Filed 3-24-04; 8:45 am]

BILLING CODE 4312-KF-P